DEPARTMENT OF HEALTH AND HUMAN SERVICES

Food and Drug Administration

[Docket No. FDA-2023-N-3636]

Food and Drug Administration Information Technology Strategy; Request for Comments; Correction

AGENCY: Food and Drug Administration, HHS.

ACTION: Notice; correction.

SUMMARY: The Food and Drug Administration (FDA or Agency) is correcting a notice entitled “Food and Drug Administration Information Technology Strategy; Request for Comments” that appeared in the Federal Register of September 19, 2023. The document announced the availability of an information technology (IT) strategic plan entitled the “FDA Information Technology Strategy” and a request for comment on this IT Strategy. The document was published with an incorrect set of fiscal year information. This document corrects that error.

FOR FURTHER INFORMATION CONTACT: Casi Alexander, Office of Digital Transformation, Food and Drug Administration, FDA Library, 5630 Fishers Lane, Rm. 1087, Rockville, MD 20857, 240-402-5171, email: Casi.Alexander@fda.hhs.gov.

SUPPLEMENTARY INFORMATION: In the Federal Register of September 19, 2023 (88 FR 64435), in FR Doc. 2023-20136, the following correction is made:

On page 64436, in the third column, in the second paragraph, “Fiscal Years 2024-2026” is corrected to read “Fiscal Years 2024-2027.”

Dated: October 4, 2023.
Lauren K. Roth,
Associate Commissioner for Policy.

[FR Doc. 2023-22388 Filed 10-6-23; 8:45 am]

BILLING CODE 4164-01-P